FEDERAL MARITIME COMMISSION

Security for the Protection of the Public Financial Responsibility To Meet Liability Incurred for Death or Injury to Passengers or Other Persons on Voyages; Notice of Issuance of Certificate (Casualty)

Notice is hereby given that the following have been issued a Certificate of Financial Responsibility to Meet Liability Incurred for Death or Injury to Passengers or Other Persons on Voyages pursuant to the provisions of Section 2, Public Law 89-777 (46 App. U.S.C. 817(d)) and the Federal Maritime Commission's implementing regulations at 46 CFR part 540, as amended:

Carnival Corporation, 3655 NW. 87th Avenue, Miami, FL 33178-2193.

Vessels: CARNIVAL LEGEND and CELEBRATION.

Celebrity Cruises Inc. and Constellation Inc., 1050 Caribbean Way, Miami, FL 33132.

Vessel: CONSTELLATION.

Delta Queen Steamboat Company, Inc., DNPS Delta Queen Steamboat Company, Inc., and American Queen Steamboat, LLC, 1380 Port of New Orleans Place, New Orleans, LA 70130.

Vessel: AMERICAN QUEEN.

Delta Queen Steamboat Company, Inc., DNPS Delta Queen Steamboat Company, Inc., Delta Queen Steamboat, LLC, and DNPS Delta Queen Steamboat, LLC, 1380 Port of New Orleans Place, New Orleans, LA 70130.

Vessel: DELTA QUEEN.

Delta Queen Steamboat Company, Inc., DNPS Delta Queen Steamboat Company, Inc., and Mississippi Queen Steamboat, LLC, 1380 Port of New Orleans Place, New Orleans, LA 70130.

Vessel: MISSISSIPPI QUEEN.

Holland America Line-Westours Inc., Holland America Line N.V., and HAL Antillen N.V., 300 Elliott Avenue West, Seattle, WA 98119.

Vessel: PRINSENDAM.

Mitsui O.S.K. Passenger Line, Ltd., Nippon Charter Cruise, Ltd., Mopas Cruise Line S.A., and Mitsui O.S.K. Lines, Ltd., 2-1 Toranomon, 2 Chome Minato-ku, Tokyo 105 8452, Japan.

Vessel: FUJI MARU.

Regal Cruises Limited, Regal Cruises Inc., Regal Enterprises Inc., and International Shipping Partners, Inc., P.O. Box 1329, 300 Regal Cruises Way, Palmetto, FL 34220.

Vessel: REGAL EMPRESS.

Scotia Prince Cruises Limited, Prince of Fundy Cruises Ltd., Transworld Steamship Co., and International Shipping Partners, Inc., Station A, P.O. Box 4216, 468 Commercial Street, Portland, ME 04101.

Vessel: SCOTIA PRINCE.

Society Expeditions, Inc., Society Expeditions GmbH, Discoverer Reederei GmbH, and Patrician Cruises Ltd., 2001 Western Avenue, Suite 300, Seattle, WA 98121.

Vessel: WORLD DISCOVERER.

The World of ResidenSea Ltd., and ResidenSea Resorts Ltd., 5200 Blue Lagoon Drive, Suite 790, Miami, FL 33126.

Vessel: THE WORLD.

Dated: June 14, 2002.
Bryant L. VanBrakle,
Secretary.

[FR Doc. 02-15503 Filed 6-19-02; 8:45 am]

BILLING CODE 6730-01-P